DEPARTMENT OF JUSTICE

Notice of Lodging of Consent Decree Under the Clean Water Act and Oil Pollution Act

Consistent with 28 CFR 50.7, notice is hereby given that on July 27, 2005, a proposed consent decree (“decree”) in United States v. Sunoco, Inc (R&M) and Sun Pipe Line Company (collectively, “Sunoco”), Civil Action No. 05-3866, was lodged with the United States District Court for the Eastern District of Pennsylvania.

In this action, the United States seeks civil penalties and natural resource damages against Sunoco for violations under section 311(b)(3) of the Clean Water Act, 33 U.S.C. 1321(b)(3), and section 1002(b)(2)(A) of the Oil Pollution Act, 33 U.S.C. 2702(b)(2)(A), resulting from a February 2, 2000 oil spill from Sunoco's North Ship Pipeline into a wetland located in the John Heinz National Wildlife Refuge in Philadelphia, Pennsylvania. The proposed decree provides that Sunoco will pay a civil penalty of $2,742,600, and natural resource damages in the amount of $865,000.

The Department of Justice will receive for a period of thirty (30) days from the date of this publication comments relating to the decree. Comments should be addressed to the Assistant Attorney General, Environment and Natural Resources Division, PO Box 7611, Ben Franklin Station, U.S. Department of Justice, Washington, DC 20044-7611, and should refer to United States v. Sunoco, Inc (R&M) and Sun Pipeline Company, D.J. Ref. 90-5-1-1-07212.

The decree may be examined at the Office of the United States Attorney, 615 Chestnut Street, Suite 1250, Philadelphia, PA 19106, and at the U.S. Environmental Protection Agency-Region 3, 1650 Arch Street, Philadelphia, PA 19103. During the public comment period, the decree may also be examined on the following Department of Justice Web site, http://www.usdoj.gov/enrd/open.html. A copy of the decree may also be obtained by mail from the Consent Decree Library, PO Box 7611, Ben Franklin Station, U.S. Department of Justice, Washington, DC 20044-7611 or by faxing or e-mailing a request to Tonia Fleetwood (tonia.fleetwood@usdoj.gov), fax no (202) 514-0097, phone confirmation number (202) 514-1547. In requesting a copy from the Consent Decree Library, please enclose a check in the amount of $4.75 (25 cents per page reproduction cost) payable to the U.S. Treasury.

Robert Brook,
Assistant Chief, Environmental Enforcement Section, Environment and Natural Resources Division.

[FR Doc. 05-15866 Filed 8-10-05; 8:45 am]

BILLING CODE 4410-15-M